INTERNATIONAL TRADE COMMISSION

[Investigation No. 337-TA-472]

In the Matter of Certain Semiconductor Devices and Products Containing Same; Notice of a Commission Determination Not To Review an Initial Determination Terminating the Investigation on the Basis of a Settlement Agreement

AGENCY: U.S. International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Timothy P. Monaghan, Esq., Office of the General Counsel, U.S. International Trade Commission, 500 E Street, SW., Washington, DC 20436, telephone 202-205-3152. Copies of all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation, which concerns allegations of unfair acts in violation of section 337 of the Tariff Act of 1930 in the importation and sale of certain semiconductor devices and products containing same on May 22, 2002, based on a complaint filed by Toshiba Corporation (“Toshiba”) of Japan. 67 FR 37439-40. The respondents named in the notice of investigation are Samsung Electronics Co., Ltd., of Seoul, Korea; Samsung Semiconductor, Inc., of San Jose, California; and Samsung Electronics America, Inc., of Ridgefield Park, New Jersey (collectively “Samsung”). Toshiba's complaint alleged that Samsung's products infringed claims of three U.S. patents held by Toshiba. On October 1, 2002, Toshiba and Samsung entered into a settlement agreement, and on September 19, 2002, Toshiba and Samsung filed a joint motion to terminate the investigation on the basis of the settlement agreement. The Commission investigative attorney supported the joint motion. On September 30, 2002, the presiding ALJ issued the ID (Order No. 10) granting the joint motion of Toshiba and Samsung to terminate the investigation on the basis of a settlement agreement. No party filed a petition to review the subject ID. The authority for the Commission's determination is contained in section 337 of the Tariff Act of 1930, as amended (19 U.S.C. 1337), and in section 210.42 of the Commission's rules of practice and procedure (19 CFR 210.42).

By order of the Commission.
Issued: October 28, 2002.
Marilyn R. Abbott,
Secretary to the Commission.

[FR Doc. 02-27703 Filed 10-30-02; 8:45 am]

BILLING CODE 7020-02-P